DEPARTMENT OF DEFENSE

Department of the Navy

Notice of Intent To Prepare a Supplemental Environmental Impact Statement (SEIS) for Use of Pinecastle Training Range, Florida

AGENCY: Department of the Navy, DoD.

ACTION: Notice.

SUMMARY: Pursuant to Section 102(2)(c) of the National Environmental Policy Act (NEPA) of 1969, and the regulations implemented by the Council on Environmental Quality (40 CFR Parts 1500-1508), the Department of the Navy (DON) announces its intent to prepare a SEIS on the use of Pinecastle Training Range in Florida. The SEIS supplements the FEIS for “Renewal of Authorization to Use Pinecastle Range, Ocala National Forest, Florida” dated January 2002. The Record of Decision for the FEIS for “Renewal of Authorization to Use Pinecastle Range, Ocala National Forest, Florida” was dated March 29, 2002 and published in the Federal Register on April 10, 2002 (67 FR 17418).

Pursuant to 40 CFR 1502.9, a SEIS is being prepared for the limited purpose of supplementing the 2002 FEIS to analyze new information regarding Range Compatibility Zones (RCZs) and to assess the effectiveness of existing mitigation measures to determine if any additional mitigation measures or a modification to the governing range Operating Plan are warranted.

After completion of the 2002 FEIS, a new safety modeling program was adopted by the Navy. This new modeling program, SAFERANGE, when applied to current training operations, indicates that the Range Compatibility Zones, formerly referred to as Range Safety Zones, are larger than previously modeled.

Impacts associated with this significant new information are the focus of the SEIS. The new RCZs could affect the following counties in Florida: Marion, Lake, Volusia, and Putnam.

The SEIS will analyze the environmental effects resulting from the revised RCZs and the effectiveness of existing mitigation measures to determine if additional actions or modifications to the range Operating Plan are necessary to maintain public safety and ensure range sustainability. The SEIS will also evaluate past, present and reasonably foreseeable future land use proposals and forestry actions from a cumulative impacts perspective.

The SEIS will not propose any changes to the Fleet's Training and Readiness Program. The targets, ordnance, method of delivery (air-to-ground), and volume of munitions utilized at Pinecastle for military training are not changing, and, therefore, will not be re-analyzed in the SEIS.

The Navy is also initiating a public scoping period for the SEIS with this announcement. Public input is requested to ensure the scope of the SEIS analysis incorporates public concerns and affords the public an input in the decision-making process.

Dates and Addresses: The Navy must receive scoping comments within 30 days of June 12, 2008. Comments may be submitted by mail or electronically through the project Web site at www.pinecastleseis.com. Mail scoping comments to: Naval Facilities Engineering Command Southeast, Attention: Mr. Richard Davis (Code EV21), 2155 Eagle Drive, North Charleston, SC 29406.

FOR FURTHER INFORMATION CONTACT: Mr. Richard Davis, Naval Facilities Engineering Command Southeast (Code EV21), 2155 Eagle Drive, North Charleston, SC, 29406 or telephone: 843-820-5589, facsimile: 843-820-7465.

SUPPLEMENTARY INFORMATION: The Navy is initiating the scoping process to identify community concerns and local issues to be addressed in the SEIS. Federal agencies, state agencies, local agencies, and interested persons are encouraged to provide comments to the Navy to identify specific issues or topics of environmental concern that should be addressed in the SEIS. Written comments must be postmarked within thirty days from the publication of this notice in the Federal Register. Notices announcing the intent to prepare a SEIS will also appear in local newspapers.

Dated: June 4, 2008.
T.M. Cruz,
Lieutenant, Judge Advocate General's Corps, U.S. Navy, Federal Register Liaison Officer.

[FR Doc. E8-13284 Filed 6-11-08; 8:45 am]

BILLING CODE 3810-FF-P